DEPARTMENT OF DEFENSE

Office of the Secretary

Defense Science Board; Notice of Federal Advisory Committee Meeting

AGENCY: Under Secretary of Defense for Research and Engineering, Defense Science Board, Department of Defense (DoD).

ACTION: Notice of Federal advisory committee meeting.

SUMMARY: The DoD is publishing this notice to announce that the following Federal Advisory Committee meeting of the Defense Science Board (DSB) will take place.

DATES: Closed to the public Monday, August 26, 2024 from 8:00 a.m. to 4:30 p.m., closed to the public Tuesday, August 27, 2024 from 8:00 a.m. to 4:30 p.m., closed to the public Wednesday, August 28, 2024 from 8:00 a.m. to 4:30 p.m., closed to the public Thursday, August 29, 2024 from 8:00 a.m. to 4:30 p.m., and closed to the public Friday, August 30, 2024 from 8:00 a.m. to 12:00 p.m..

ADDRESSES: The address of the closed meetings is 1 University Circle, Monterey, CA 93943.

FOR FURTHER INFORMATION CONTACT: Ms. Elizabeth J. Kowalski, Designated Federal Officer (DFO): (703) 571-0081 (Voice), (703) 697-1860 (Facsimile), elizabeth.j.kowalski.civ@mail.mil, (Email) Mailing address is Defense Science Board, 3140 Defense Pentagon, Washington, DC 20301-3140. Website: http://www.acq.osd.mil/dsb/. The most up-to-date changes to the meeting agenda can be found on the website.

SUPPLEMENTARY INFORMATION: This meeting is being held under the provisions of chapter 10 of title 5, United States Code (U.S.C.) (commonly known as the “Federal Advisory Committee Act” or “FACA”); section 552b(c) of title 5, U.S.C.; and sections 102-3.140 and 102-3.150 of title 41, Code of Federal Regulations (CFR).

Purpose of the Meeting: The mission of the DSB is to provide independent advice and recommendations on matters relating to the DoD's scientific and technical enterprise. The objective of the meeting is to obtain, review, and evaluate classified information related to the DSB's mission. The DSB will discuss the 2024 DSB Summer Study on Advanced Capabilities for Potential Future Conflict and classified strategies for continued development of symmetric and asymmetric capabilities.

Agenda: The meeting will begin on Monday, August 26, 2024 at 8:00 a.m. DSB DFO Executive Director, Elizabeth Kowalski, will provide brief administrative remarks. Dr. Eric Evans, DSB Chair, will provide opening remarks and a classified overview of the objectives of the 2024 Summer Study on Advanced Capabilities for Potential Future Conflict. Next, Dr. David Honey, Deputy Under Secretary of Defense for Research and Engineering (DUSD(R&E)), will provide remarks regarding the objectives of the 2024 Summer Study on Advanced Capabilities for Potential Future Conflict. Next, the DSB will conduct a dry run of the current summary of findings on the development of symmetric and asymmetric capabilities that will characterize future conflicts. Following a break, members will discuss classified strategies that best enable DoD's continued development of symmetric and asymmetric capabilities that will characterize future conflicts. The session will adjourn at 4:30 p.m. The meeting will continue Tuesday, August 27, 2024, at 8:00 a.m. The DSB will discuss classified strategies that best enable DoD's continued development of symmetric and asymmetric capabilities that will characterize future conflicts, with a break midday. The session will adjourn at 4:30 p.m. On Wednesday, August 28, 2024 at 8:00 a.m., the DSB will proceed through a dry run of the current summary of findings on the development of symmetric and asymmetric capabilities that will characterize future conflicts. Following a break, members will discuss classified strategies that best enable DoD's continued development of symmetric and asymmetric capabilities that will characterize future conflicts. The session will adjourn at 4:30 p.m. On Thursday, August 29, 2024, at 8:00 a.m., the DSB will discuss classified strategies that best enable DoD's continued development of symmetric and asymmetric capabilities that will characterize future conflicts, with a break midday. The session will adjourn at 4:30 p.m. On the final day, Friday, August 30, 2024, the meeting will begin at 8:00 a.m. The DSB will proceed through a Dry Run of the current summary of findings on the development of symmetric and asymmetric capabilities that will characterize future conflicts. Members will deliberate and vote on the finalized product. The meeting will adjourn at 12:00 p.m.

Meeting Accessibility: In accordance with section 1009(d) of title 5, U.S.C. and section 102-3.155 of title 41 CFR, the DoD has determined that the DSB meeting will be closed to the public. Specifically, the DUSD(R&E), in consultation with the DoD Office of the General Counsel, has determined in writing that the meeting will be closed to the public because it will consider matters covered by section 552b(c)(1) of title 5, U.S.C. The determination is based on the consideration that it is expected that discussions throughout will involve classified matters of national security concern. Such classified material is so intertwined with the unclassified material that it cannot reasonably be segregated into separate discussions without defeating the effectiveness and meaning of the overall meeting. To permit the meeting to be open to the public would preclude discussion of such matters and would greatly diminish the ultimate utility of the DSB's findings and recommendations to the Secretary of Defense and to the DUSD(R&E).

Written Statements: In accordance with section 1009(a)(3) of title 5, U.S.C. and sections 102-3.105(j) and 102-3.140 of title 41, CFR, interested persons may submit a written statement for consideration by the DSB at any time regarding its mission or in response to the stated agenda of a planned meeting. Individuals submitting a written statement must submit their statement to the DSB DFO at the email address provided above in the FOR FURTHER INFORMATION CONTACT section at any point; however, if a written statement is not received at least three calendar days prior to a meeting, which is the subject of this notice, then it may not be provided to or considered by the DSB until a later date.

Dated: July 29, 2024.
Patricia L. Toppings,
OSD Federal Register Liaison Officer, Department of Defense.

[FR Doc. 2024-17029 Filed 8-1-24; 8:45 am]

BILLING CODE 6001-FR-P